INTERNATIONAL TRADE COMMISSION

Investigation Nos. 731-TA-1084-1087 (Review)

Purified Carboxymethylcellulose From Finland, Mexico, Netherlands and Sweden

Determinations

On the basis of the record ¹ developed in the subject five-year reviews, the United States International Trade Commission (Commission) determines, pursuant to section 751(c) of the Tariff Act of 1930 (19 U.S.C. 1675(c)), that revocation of the antidumping duty orders on purified carboxymethylcellulose from Mexico and Sweden would not be likely to lead to continuation or recurrence of material injury to an industry in the United States within a reasonably foreseeable time and that revocation of the antidumping duty orders on purified carboxymethylcellulose from Finland and Netherlands would be likely to lead to continuation or recurrence of material injury to an industry in the United States within a reasonably foreseeable time.²

¹ The record is defined in sec. 207.2(f) of the Commission's Rules of Practice and Procedure (19 CFR 207.2(f)).

² Commission Charlotte R. Lane determined that revocation of the antidumping duty order on subject imports from Mexico would be likely to lead to continuation or recurrence of material injury to an industry in the United States within a reasonably foreseeable time. Commissioner Daniel R. Pearson determined that revocation of the antidumping duty orders on subject imports from Finland, Mexico, the Netherlands, and Sweden would not be likely to lead to continuation or recurrence of material injury to an industry in the United States within a reasonably foreseeable time.

Background

The Commission instituted these reviews on June 1, 2010 (75 FR 30431) and determined on September 7, 2010 that it would conduct full reviews (75 FR 57815, September 22, 2010). Notice of the scheduling of the Commission's reviews and of a public hearing to be held in connection therewith was given by posting copies of the notice in the Office of the Secretary, U.S. International Trade Commission, Washington, DC, and by publishing the notice in the Federal Register on September 22, 2010 (75 FR 57815). The hearing was held in Washington, DC, on February 15, 2011, and all persons who requested the opportunity were permitted to appear in person or by counsel.

The Commission transmitted its determinations in these reviews to the Secretary of Commerce on May 6, 2011. The views of the Commission are contained in USITC Publication 4225 (May 2011), entitled Purified Carboxymethylcellulose from Finland, Mexico, Netherlands, and Sweden: Investigation Nos. 731-TA-1084-1087(Review).

By order of the Commission.
Issued: May 9, 2011.
James R. Holbein,
Acting Secretary to the Commission.

[FR Doc. 2011-11635 Filed 5-11-11; 8:45 am]

BILLING CODE 7020-02-P